DEPARTMENT OF EDUCATION

The Fund for the Improvement of Postsecondary Education (FIPSE) National Board

AGENCY: The Fund for the Improvement of Postsecondary Education (FIPSE) National Board, U.S. Department of Education.

ACTION: Notice of an open teleconference meeting.

SUMMARY: This notice sets forth the schedule and agenda of an upcoming open teleconference meeting of the National Board (Board) of the Fund for the Improvement of Postsecondary Education. The notice also describes the functions of the Board. Notice of this meeting is required by Section 10(a)(2) of the Federal Advisory Committee Act and is intended to notify the public of their opportunity to attend.

DATES: Thursday, June 28, 2012.

Time: 2:00 p.m.-4:00 p.m., Eastern Standard Time.

ADDRESSES: 1990 K Street NW., Washington, DC 20006, Telephone: (202) 502-7500.

FOR FURTHER INFORMATION CONTACT: Sarah T. Beaton, U.S. Department of Education, 1990 K Street NW., Washington, DC 20006-8544; telephone: (202) 502-7621; email: sarah.beaton@ed.gov.

SUPPLEMENTARY INFORMATION: The National Board of the Fund for the Improvement of Postsecondary Education is established in Title VII, Part B, Section 742 of the Higher Education Act of 1965, as amended (20 U.S.C. 1138a). The Board is authorized to advise the Director of the Fund and the Assistant Secretary for Postsecondary Education on (1) priorities for the improvement of postsecondary education, including recommendations for the improvement of postsecondary education and for the evaluation, dissemination, and adaptation of demonstrated improvements in postsecondary educational practice; and (2) the operation of the Fund, including advice on planning documents, guidelines, and procedures for grant competitions prepared by the Fund.

On Thursday, June 28, 2012, from 2:00 p.m. to 4:00 p.m., Eastern Standard Time, the Board will conduct business in an open teleconference. The agenda for the meeting will include discussion of the Fund's programs and special initiatives.

Teleconference calling instructions are as follows: Please call 1-877-952-3216 and use participant code 1826857. The maximum number of members of the public that can access the teleconference meeting (listen only) is 50. Callers will be accepted on a first come, first served basis. Individuals who use a telecommunications device for the deaf (TDD) may call the Federal Information Relay Service (FRS), toll-free, at 1-800-877-8339, Monday through Friday, between the hours of 8:00 a.m. and 8:00 p.m., Eastern Standard Time.

Individuals who will need accommodations for a disability in order to participate in the teleconference (e.g., interpreting services, assistance listening devices, or materials in alternative format) should notify Sarah T. Beaton at (202)502-7621, no later than June 18, 2012. We will attempt to meet requests for accommodations after this date but cannot guarantee their availability.

Members of the public are encouraged to submit written comments related to the FIPSE Program or the Board to the attention of Sarah T. Beaton, 1990 K Street NW., Room 6154, Washington, DC 20006-8544, or by email at sarah.beaton@ed.gov.

Records are kept of all Board proceedings and are available for public inspection at the office of the Fund for the Improvement of Postsecondary Education, Sixth Floor, 1990 K Street NW., Washington, DC 20006-8544, from the hours of 8:00 a.m. to 4:30 p.m., Eastern Standard Time, Monday through Friday.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specially, through the advanced search feature at this site, you can limit your search to documents published by the Department.

Eduardo M. Ochoa,
Assistant Secretary for Postsecondary Education.

[FR Doc. 2012-14583 Filed 6-13-12; 8:45 am]

BILLING CODE P